DEPARTMENT OF ENERGY

Federal Energy Regulatory Commission

Combined Notice of Filings #1

Take notice that the Commission received the following electric corporate filings:

Docket Numbers: EC15-96-000.

Applicants: Osprey Energy Center, LLC, Duke Energy Florida, Inc.

Description: Supplement to May 13, 2015 Joint Application for Approval Under Section 203 of the Federal Power Act of Osprey Energy Center, LLC and Duke Energy Florida, Inc.

Filed Date: 6/23/15.

Accession Number: 20150623-5171.

Comments Due: 5 p.m. ET 7/2/15.

Docket Numbers: EC15-158-000.

Applicants: DTE Electric Company, Renaissance Power, L.L.C.

Description: Application for Authorization for Disposition of Jurisdictional Facilities pursuant to FPA Section 203 by DTE Electric Company and Renaissance Power. L.L.C.

Filed Date: 6/23/15.

Accession Number: 20150623-5170.

Comments Due: 5 p.m. ET 7/14/15.

Take notice that the Commission received the following exempt wholesale generator filings:

Docket Numbers: EG15-99-000.

Applicants: Indeck Corinth Limited Partnership.

Description: Self-Certification of EWG Status of Indeck Corinth Limited Partnership.

Filed Date: 6/23/15.

Accession Number: 20150623-5159.

Comments Due: 5 p.m. ET 7/14/15.

Take notice that the Commission received the following electric rate filings:

Docket Numbers: ER10-3254-002.

Applicants: Cooperative Energy Incorporated (An Electric Membership Coporation).

Description: Supplement to May 12, 2015 Updated Market Power Analysis of Cooperative Energy Incorporated (An Electric Membership Corporation).

Filed Date: 6/19/15.

Accession Number: 20150619-5231.

Comments Due: 5 p.m. ET 7/10/15.

Docket Numbers: ER13-1523-002.

Applicants: Blythe Energy Inc., AltaGas Renewable Energy Colorado LLC.

Description: Supplement to February 9, 2015 Notice of Change in Status of Blythe Energy Inc.

Filed Date: 5/11/15.

Accession Number: 20150511-5244.

Comments Due: 5 p.m. ET 7/15/15.

Docket Numbers: ER15-1941-000; ER15-1942-000.

Applicants: Barclays Bank PLC, Barclays Capital Energy Inc.

Description: Amendment to June 16, 2015 Notice of Cancellation of Market Based Rate Tariff of Barclays Bank PLC and Barclays Capital Energy Inc.

Filed Date: 6/23/15.

Accession Number: 20150623-5127.

Comments Due: 5 p.m. ET 7/8/15.

Docket Numbers: ER15-1971-000.

Applicants: Roctop Investments, Inc.

Description: Initial rate filing per 35.12 Baseline New to be effective 7/1/2015.

Filed Date: 6/23/15.

Accession Number: 20150623-5146.

Comments Due: 5 p.m. ET 7/14/15.

Docket Numbers: ER15-1972-000.

Applicants: Indeck Corinth Limited Partnership.

Description: Initial rate filing per 35.12 Baseline New to be effective 7/1/2015.

Filed Date: 6/23/15.

Accession Number: 20150623-5168.

Comments Due: 5 p.m. ET 7/14/15.

Docket Numbers: ER15-1973-000.

Applicants: Southwest Power Pool, Inc.

Description: Section 205(d) rate filing per 35.13(a)(2)(iii): 1518R9 Arkansas Electric Cooperative Corp NITSA NOA to be effective 6/1/2015.

Filed Date: 6/24/15.

Accession Number: 20150624-5029.

Comments Due: 5 p.m. ET 7/15/15.

Docket Numbers: ER15-1974-000.

Applicants: Southwest Power Pool, Inc.

Description: Section 205(d) rate filing per 35.13(a)(2)(iii): 2158R5 Arkansas Electric Cooperative Corp NITSA and NOA to be effective 6/1/2015.

Filed Date: 6/24/15.

Accession Number: 20150624-5037.

Comments Due: 5 p.m. ET 7/15/15.

Docket Numbers: ER15-1975-000.

Applicants: PJM Interconnection, L.L.C.

Description: Section 205(d) rate filing per 35.13(a)(2)(iii): Service Agreement No. 4180; Queue AA1-065 to be effective 5/29/2015.

Filed Date: 6/24/15.

Accession Number: 20150624-5038.

Comments Due: 5 p.m. ET 7/15/15.

Docket Numbers: ER15-1976-000.

Applicants: Southwest Power Pool, Inc.

Description: Section 205(d) rate filing per 35.13(a)(2)(iii): East River Electric Power Cooperative Formula Rate to be effective 10/1/2015.

Filed Date: 6/24/15.

Accession Number: 20150624-5058.

Comments Due: 5 p.m. ET 7/15/15.

Docket Numbers: ER15-1977-000.

Applicants: Sunbury Energy, LLC.

Description: Notice of Cancellation of Market Based Rate Tariff of Sunbury Energy, LLC.

Filed Date: 6/24/15.

Accession Number: 20150624-5070.

Comments Due: 5 p.m. ET 7/15/15.

Docket Numbers: ER15-1978-000.

Applicants: PJM Interconnection, L.L.C.

Description: Section 205(d) rate filing per 35.13(a)(2)(iii): Service Agreement No. 4185; Queue AA2-184 to be effective 5/26/2015.

Filed Date: 6/24/15.

Accession Number: 20150624-5074.

Comments Due: 5 p.m. ET 7/15/15.

Docket Numbers: ER15-1979-000.

Applicants: PJM Interconnection, L.L.C.

Description: Tariff Withdrawal per 35.15: Cancellation of Service Agreement Nos. 3685, 3667, 3629, 3751, 2706, 3768 to be effective 7/29/2014.

Filed Date: 6/24/15.

Accession Number: 20150624-5122.

Comments Due: 5 p.m. ET 7/15/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 24, 2015.
Kimberly D. Bose,
Secretary.

[FR Doc. 2015-16305 Filed 7-1-15; 8:45 am]

BILLING CODE 6717-01-P